DEPARTMENT OF COMMERCE

International Trade Administration

University of Michigan; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-041. Applicant: University of Michigan, Ann Arbor, MI 48109. Instrument: 2 (each) CdZnTe Conplanar Grad Radiation Detectors. Manufacturer: Baltic Scientific Instruments, Latvia. Intended Use: See notice at 68 FR 53547, September 11, 2003.

Comments: None received. Decision: Approved. No instrument of equivalent scientific value to the foreign instrument, for such purposes as it is intended to be used, is being manufactured in the United States. Reasons: The foreign instrument provides optimal fabrication of a CdZnTe crystal gamma-ray detector using very specialized crystals and signal processing techniques for high energy resolution for use in space exploration. A university physics department advised October 27, 2003 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-27692 Filed 11-3-03; 8:45 am]

BILLING CODE 3510-DS-P